DEPARTMENT OF COMMERCE

National Oceanic and Atmospheric Administration

Science Advisory Board (SAB)

AGENCY: Office of Oceanic and Atmospheric Research (OAR), National Oceanic and Atmospheric Administration (NOAA), Department of Commerce (DOC).

ACTION: Notice of time change and meeting location.

SUMMARY: The notice of an open meeting of the NOAA Science Advisory Board (SAB) was published in the Federal Register on October 2, 2013 (78FR60851). Since the publication of the meeting notice, the starting time for the meeting on November 19, 2013 has changed from 10:00 a.m. to 10:30 a.m. and the meeting adjournment has changed from 2:30 p.m. on November 20, 2013 to 11:30 a.m. The meeting will be held at the Beacon Hotel, 1615 Rhode Island Avenue, Washington, DC 20036. Please see the Web site, http://www.sab.noaa.gov/Meetings/meetings.html for the most recent agenda and directions to the meeting location.

FOR FURTHER INFORMATION CONTACT: Dr. Cynthia Decker, Executive Director, Science Advisory Board, NOAA, Rm. 11230, 1315 East-West Highway, Silver Spring, Maryland 20910. (Phone: 301-734-1156, Fax: 301-713-1459. Email: Cynthia.Decker@noaa.gov; or visit the NOAA SAB Web site at http://www.sab.noaa.gov.

SUPPLEMENTARY INFORMATION: None.

Dated: November 6, 2013.
Jamie Krauk,
Acting Chief Financial Officer/Chief Administrative Officer, Office of Oceanic and Atmospheric Research, National Oceanic and Atmospheric Administration.

[FR Doc. 2013-27178 Filed 11-12-13; 8:45 am]

BILLING CODE 3510-KD-P